DEPARTMENT OF LABOR

Employment and Training Administration

Comment Request for Information Collection for ETA 191, Statement of Expenditures and Financial Adjustments of Federal Funds for Unemployment Compensation for Federal Employees and Ex-Servicemembers Report, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Expenditures and Financial Adjustments of Federal Funds for Unemployment Compensation for Federal Employees and Ex-Servicemembers.

DATES: Submit written comments to the office listed in the addresses section below on or before October 26, 2015.

ADDRESSES: Send written comments to Cindy Le, Office of Unemployment Insurance, Room S-4524, Employment and Training Administration, U.S. Department of Labor, 200 Constitution Avenue NW., Washington, DC 20210. Telephone number: 202-693-2829 (this is not a toll-free number). Individuals with hearing or speech impairments may access the telephone number above via TTY by calling the toll-free Federal Information Relay Service at 1-877-889-5627 (TTY/TDD). Email: le.cindy@dol.gov. To obtain a copy of the proposed information collection request (ICR), please contact the person listed above.

SUPPLEMENTARY INFORMATION:

I. Background

Public Law 97-362, Miscellaneous Revenue Act of 1982, amended the Unemployment Compensation for Ex-Sevicemembers (UCX) law (5 U.S.C. 8509), and Public Law 96-499, Omnibus Budget Reconciliation Act, amended the Unemployment Compensation for Federal Employees (UCFE) law (5 U.S.C. 8501, et. seq.) requiring each Federal employing agency to pay the costs of regular and extended UCFE/UCX benefits paid to its employees by the State Workforce Agencies (SWAs). The ETA 191 report submitted quarterly by each SWA shows the amount of benefits that should be charged to each Federal employing agency. The Office of Unemployment Insurance uses this information to aggregate the SWA quarterly charges and submit one official bill to each Federal agency being charged. Federal agencies then reimburse the Federal Employees Compensation Account maintained by the U.S. Department of the Treasury.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without changes.

Title: Statement of Expenditures and Financial Adjustments of Federal Funds for Unemployment Compensation for Federal Employees and Ex-Servicemembers, ETA 191.

OMB Number: 1205-0162.

Affected Public: State Workforce Agencies.

Estimated Total Annual Respondents: 53.

Annual Frequency: Quarterly.

Estimated Total Annual Responses: 212.

Average Time per Response: 6 Hours.

Estimated Total Annual Burden Hours: 1,272 Hours.

Total Estimated Annual Other Cost Burden: There is no cost to respondents.

We will summarize and/or included in the request for OMB approval of the ICR, the comments received in response to this comment request; they will also become a matter of public record.

Portia Wu,
Assistant Secretary for Employment and Training, Labor.

[FR Doc. 2015-21123 Filed 8-25-15; 8:45 am]

BILLING CODE 4510-FW-P